DEPARTMENT OF TRANSPORTATION

Federal Motor Carrier Safety Administration

Reports, Forms and Recordkeeping Requirements Agency Information Collection Activity Under OMB Review

AGENCY: Federal Motor Carrier Safety Administration (FMCSA), DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collection and its expected burden. The Federal Register Notice with a 60-day comment period soliciting comments on the following information collection was published on November 30, 1999 (64 FR 66961).

DATES: Comments must be submitted on or before May 30, 2000.

FOR FURTHER INFORMATION CONTACT: Mr. Ron Ashby, (202) 358-7039, Office of Enforcement and Compliance, Federal Motor Carrier Safety Administration, 400 7th Street, SW., Washington, DC 20590-0001. Office hours are from 7:30 a.m. to 4 p.m., e.t., Monday through Friday, except Federal holidays.

SUPPLEMENTARY INFORMATION: Title: Financial Responsibility for Motor Carriers of Passengers and Motor Carriers of Property.

OMB Number: 2126-0008.

Type of Request: Renewal of currently-approved information collections.

Abstract: Upon OMB approval for renewal of information collections, the FMCSA is requesting to combine two information collections into one as titled above. The 60-day Federal Register notice was published prior to OMB's assignment of new approval numbers to accommodate the FMCSA. Therefore, the Notice referenced the two collections under their former Federal Highway Administration (FHWA) OMB approval numbers as 2125-0074 and 2125-0518. They have subsequently been renumbered as 2126-0005 and 2126-0008. FMCSA is requesting that a combined collection maintain OMB Approval No. 2126-0008 and that 2126-0005 be canceled. The two collections, which differ only in regulated audiences, cover similar requirements for motor carriers to document their minimum levels of financial responsibility. Combining these two collections will not result in increased burdens.

The Secretary of Transportation is responsible for regulations which establish minimal levels of financial responsibility for (1) motor carriers of property to cover public liability, property damage, and environmental restoration and (2) for-hire motor carriers of passengers to cover public liability and property damage. The Endorsement for Motor Carrier Policies of Insurance for Public Liability (Form MCS-90/90B) and the Motor Carrier Public Liability Surety Bond (Form MCS-82/82B) contain the minimum amount of information necessary to document that these levels have been obtained and are in effect. The information within these documents is used by the FMCSA and the public to verify that a motor carrier of property or passengers has obtained and has in effect the required minimum levels of financial responsibility.

Respondents: Insurance and surety companies of motor carriers of property (Form MCS-90 and Form MCS-82) and motor carriers of passengers (Form MCS-90B and Form MCS-82B).

Average Burden per Response: Two minutes to complete the Endorsement for Motor Carrier Policies of Insurance for Public Liability or the Motor Carrier Public Liability Surety Bond; one minute to file the Motor Carrier Public Liability Surety Bond; one minute to have either document on board the vehicle (foreign-domiciled motor carriers only).

Estimated Total Annual Burden: 5,285 hours.

Frequency: Upon creation, change, or replacement of an insurance policy or surety bond.

ADDRESSES: Send comments to the Office of Information and Regulatory Affairs, Office of Management and Budget, 725 17th Street, NW., Washington, DC 20503, Attention: DOT Desk Officer. Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of publication of this Notice.

Issued on: April 20, 2000.
Brian M. McLaughlin,
Director Office of Policy, Plans, & Regulations, Federal Motor Carrier Safety Administration.

[FR Doc. 00-10547 Filed 4-27-00; 8:45 am]

BILLING CODE 4910-22-P